ENVIRONMENTAL PROTECTION AGENCY

[FRL-6926-1]

ILCO Superfund Site; Notice of Proposed Settlement

AGENCY: Environmental Protection Agency (EPA).

ACTION: Notice of proposed settlement.

SUMMARY: The United States Environmental Protection Agency is proposing to enter into two settlement agreements with a total of 19 parties for response costs at the ILCO Superfund Site pursuant to section 122(h)(1) of the Comprehensive Environmental Response, Compensation, and Liability Act (CERCLA), 42 U.S.C. 9622(h)(1). EPA will consider public comments on the proposed settlements for thirty (30) days. EPA may withdraw from or modify the proposed settlements should such comments disclose facts or considerations which indicate the proposed settlement is inappropriate, improper or inadequate. Copies of the proposed settlements are available from: Ms. Paula V. Batchelor, U.S. EPA, Region 4 (WMD-PSB), 61 Forsyth Street SW, Atlanta, Georgia 30303, (404) 562-8887.

Written comments may be submitted to Ms. Batchelor within 30 calendar days of the date of this publication.

Dated: December 21, 2000.
Franklin E. Hill,
Chief, CERCLA Program Services Branch, Waste Management Division.

[FR Doc. 00-33356 Filed 12-28-00; 8:45 am]

BILLING CODE 6560-50-P